DEPARTMENT OF TRANSPORTATION

Federal Motor Carrier Safety Administration

[Docket No. FMCSA-2004-18898]

Comprehensive Safety Analysis 2010 Initiative

AGENCY: Federal Motor Carrier Safety Administration, DOT.

ACTION: Notice of public webinars.

SUMMARY: The Federal Motor Carrier Safety Administration (FMCSA) announces two public webinars to inform interested parties of the Agency's Comprehensive Safety Analysis 2010 (CSA 2010) initiative. CSA 2010 is a comprehensive review, analysis, and restructuring of FMCSA's current compliance and enforcement program. FMCSA will use the webinars to brief participants on the direction and progress of CSA 2010, and obtain feedback and answer questions from its stakeholders. FMCSA will also provide motor carriers, drivers and other stakeholders with information on what changes will occur with the implementation of CSA 2010, and how best to prepare for those changes.

DATES: The public webinars will be held on December 3, 2009, and December 10, 2009, at 3:30 p.m. EST. Registration information is explained in the SUPPLEMENTARY INFORMATION section of this notice. Written comments regarding the webinar must be received by January 31, 2010. Comments received after that date will be considered to the extent possible.

ADDRESSES: You may submit comments identified by Federal Docket Management System Docket ID Number FMCSA-2004-18898 by any of the following methods:

Federal eRulemaking Portal: Go to http://www.regulations.gov. Follow the on-line instructions for submitting comments.

Mail: Docket Management Facility; U.S. Department of Transportation, West Building Ground Floor, Room W12-140, 1200 New Jersey Avenue, SE., Washington, DC 20590-0001.

Hand Delivery: U.S. Department of Transportation, West Building Ground Floor, Room W12-140, 1200 New Jersey Avenue, SE., Washington, DC, between 9 a.m. and 5 p.m., Monday through Friday, except Federal Holidays.

Fax: 1-202-493-2251.

Each submission must include the Agency name, FMCSA, and the Docket No. referenced above. Note that DOT posts all comments received without change to http://www.regulations.gov, including any personal information included in a comment. Please see the Privacy Act heading below.

Docket: For access to the docket to read background documents or comments, go to http://www.regulations.gov at any time, or Ground Floor, Room W12-140, 1200 New Jersey Avenue, SE., Washington, DC, between 9 a.m. and 5 p.m., Monday through Friday, except Federal holidays. The Federal Docket Management System is available 24 hours each day, 365 days each year. If you want acknowledgment that we received your comments, please include a self-addressed, stamped envelope or postcard, or print the acknowledgement page that appears after submitting comments on-line.

Privacy Act: Anyone may search the electronic form of all comments received into any of our dockets by the name of the individual submitting the comment (or of the person signing the comment, if submitted on behalf of an association, business, labor union, etc.).

You may review the DOT's complete Privacy Act Statement in the Federal Register published on April 11, 2000 (65 FR 19476). This information is also available at http://docketsinfo.dot.gov.

FOR FURTHER INFORMATION CONTACT: Tamara Johnson, Program Assistant, CSA 2010, (202) 366-6621.

SUPPLEMENTARY INFORMATION: Format and Agenda of Listening Session: During the public webinars, FMCSA will provide the following:

Thursday, December 3, 2009, at 3:30 p.m. EST, Webinar—Part 1: CSA 2010 Overview and Operational Model Test Results. This webinar will focus on describing the three main components of CSA 2010 and the operational model test, including quantitative and qualitative results to date. In February 2008, FMCSA began testing the new CSA 2010 operational model in four States, CO, GA, MO, and NJ, and has since added four additional states, KS, MD, MN, and MT. This test is designed to validate the efficiency and effectiveness of the CSA 2010 operational model.

Thursday, December 10, 2009, at 3:30 p.m. EST, Webinar—Part 2: CSA 2010 from a Motor Carrier and Driver Perspective. This webinar will focus on program implementation, and is designed to provide motor carriers, drivers, and other stakeholders with specific information on what will change and how stakeholders can prepare for CSA 2010 implementation.

Each webinar will consist of a presentation delivered by FMCSA personnel, followed by a facilitated panel discussion. Participants in the panel will include CSA 2010 subject matter experts, operational model test participants, field staff, and State law enforcement personnel. The participants will discuss their knowledge and experience in conducting the CSA 2010 operational model test, identify best practices, and provide guidance for implementation. Each 90-minute webinar will be divided into two 45-minute segments. The first segment will be used to present information to participants and for the panel discussion. The second segment will be used for questions and answers.

Participants should submit questions to be addressed during the webinars with their registration form. In addition, participants will be able to submit questions during the webinars. CSA 2010 subject matter experts will be available during the listening sessions to address questions and comments.

Registration information and instructions:

1. To register for the webinars, attendees must register online at http://csa2010.fmcsa.dot.gov by November 30, 2009.

2. After registration, participants will receive the specific Internet address (uniform resource locator, URL) and access information for the webinars. Information from the CSA 2010 public webinars will be posted on the Agency's public Web site at http://csa2010.fmcsa.dot.gov and in the docket after the webinars.

Background

In August 2004, FMCSA embarked on CSA 2010, a comprehensive review and analysis of FMCSA's motor vehicle safety compliance and enforcement program (69 FR 51748, August 20, 2004). The ultimate goal of CSA 2010 is to achieve a greater reduction in large truck and bus crashes, injuries, and fatalities while making efficient and effective use of the resources of FMCSA and its State partners. CSA 2010 will help the Agency assess the safety performance of a greater segment of the motor carrier industry and intervene with more carriers and drivers to change unsafe behavior early. In contrast to the Agency's current operational model, CSA 2010 is characterized by (1) a more comprehensive safety measurement system; (2) a broader array of interventions; and (3) upon adoption of a final rule, a safety fitness determination methodology that is based on performance data rather than an on-site compliance review. FMCSA has made significant progress in its development and testing of the CSA 2010 operational model, and is preparing for implementation in 2010. For more information on CSA 2010, including its major components, implementation plans, and the field test, visit http://csa2010.fmcsa.dot.gov.

FMCSA understands how important it is to obtain feedback on this new CSA 2010 compliance and enforcement program from partners, stakeholders, and other interested parties. The Agency conducted nine listening sessions to date, six in 2004, and one each in 2006, 2007 and 2008. Through these listening sessions, FMCSA provided information and obtained feedback on: (1) Ways the Agency could improve its process of monitoring and assessing motor carrier industry safety performance, (2) the design and development of CSA 2010, and (3) the results of the ongoing CSA 2010 operational model test. To view the final report for each of these listening sessions, including the feedback received, visit the Outreach and Media page on http://csa2010.fmcsa.dot.gov.

Comments Requested

FMCSA also requests written comments from all interested parties on the CSA 2010 program elements. For more detailed information on CSA 2010 commenters are invited to go to http://csa2010.fmcsa.dot.gov. Each commenter is requested to provide supporting data and rationale wherever possible.

Issued on: October 29, 2009.
Rose A. McMurray,
Acting Deputy Administrator.

[FR Doc. E9-26412 Filed 11-2-09; 8:45 am]

BILLING CODE P